DEPARTMENT OF ENERGY

Federal Energy Regulatory Commission

[Docket No. CP01-382-000]

Zia Natural Gas Company, An Operating Division of Natural Gas Processing Company, Complainant, v. Raton Gas Transmission Company, Respondent; Notice of Complaint

June 13, 2001.

Take notice that on June 11, 2001, pursuant to Rule 206 of the Commission's Rules of Practice and Procedure (18 CFR 385.206), Zia Natural Gas Company, an Operating Division of Natural Gas Processing Company (Zia), filed a section 5 Complaint against Raton Gas Transmission Company (RGT), requesting the Commission to find that certain actions taken by RGT and its agent, Duke Energy Trading and Marketing, L.L.C. (Duke) have denied Zia the part 157 transportation service to which it is entitled under RGT's existing certificate of public convenience and necessity, thereby violating the Natural Gas Act and RGT's certificate. To redress these violations, Zia requests that the Commission immediately direct RGT and RGT's agent, Duke, to provide Zia its full service entitlement under RGT's existing case-specific, section 7(c) certificate. Zia further requests that the Commission direct RGT and its agent, Duke, to cease and desist from any and all actions that impede or prevent Zia's use of its RGT service entitlement, or that extend use of that service entitlement to parties not authorized to receive service under RGT's existing, case-specific certificate.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before June 21, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before June 21, 2001. Comments, protests and interventions may be filed electronically via the internet in lieu of paper. See, 18 CFR 385.2001(a)(1)(iii) and the instructions on the Commission's web site at http://www.ferc.fed.us/efi/doorbell.htm.

David P. Boergers,
Secretary

[FR Doc. 01-15384 Filed 6-18-01; 8:45 am]

BILLING CODE 6717-01-M